FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistance Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
20002276 | Pfizer Inc. | Warner-Lambert Company | Warner-Lambert Company
20003386 | Novell, Inc. | Redleaf Group, Inc. | Redleaf Group, Inc.
20003390 | Prime 66 Partners, L.P | NTL Incorporated | NTL Incorporated
20003398 | Prime 66 Partners, L.P | CoreComm Limited | CoreComm Limited
20003405 | Lincare Holdings Inc. | United Medical, Inc. | United Medical, Inc.
20003429 | Vodafone AirTouch Plc | James R. Leininger | ATX Technologies, Inc.
20003443 | Public Service Enterprise Group Incorporated | Panda Energy International, Inc. | Panda Oneta Power, L.P., Union Power Partners, L.P.
|  |  | Trans-Union Interstate Pipeline, L.P.
20003450 | COMSYS Holding, Inc. | Cotelligent, Inc. | Cotelligent, Inc.
20003452 | KELP—1987 Limited Partnership | Bay View Capital Corporation | Bankers Mutual Mortgage, Inc.
20003457 | ShopKo Stores, Inc. | P.M. Place Stores Company | P.M. Place Stores Company
20003472 | The Walt Disney Company | Timothy P. Mayhew | Hibernia Communications, LLC
20003477 | Geoworks Corporation | Science Applications International Corporation | Telcordia Tecnologies, Inc.
20003483 | Hewlett-Packard Company | Redswitch, Inc. | Redswitch, Inc.
20003494 | UnitedGlobalCom, Inc. | Cignal Global Communications, Inc. | Cignal Global Communications, Inc.
20003497 | Norske Skogindustrier ASA | Fletcher Challenge Limited | Fletcher Challenge Paper Limited
20003501 | MDU Resources Group, Inc. | Philip H. Wagner | The Wagner-Smith Company, Wagner-Smith Pump&Systems, Inc.
|  |  | Wagner-Smith Equipment Co., Frebco, Inc., Newco, Inc.
TRANSACTIONS GRANTED EARLY TERMINATION—06/20/2000
20003382 | Berkshire Hathaway Inc. | Edward Bridge | Ben Bridge Corporation
20003383 | Edward Bridge | Berkshire Hathaway Inc. | Berkshire Hathaway Inc.
20003474 | Lernout & Hauspie Speech Products N.V | Rodeer Systems, Inc. | Rodeer Systems, Inc.
20003478 | Science Applications International Corporation | Geoworks Corporation | Geoworks Corporation
20003486 | First Union Corporation | First Albany Companies Inc. | First Albany Companies Inc.
20003500 | The Progressive Corporation | PowerSports, Inc. | PowerSports, Inc.
20003502 | FairPoint Communications, Inc. | W.B.W. Trust Number One | Comerco, Inc.
20003511 | 3Com Corporation | AnyDay.com, Inc. | AnyDay.com, Inc.
20003536 | Michael B. Bates | InfoSpace, Inc. | InfoSpace, Inc.
20003548 | Avanex Corporation | David F. Millet | Holographix, Inc.
20003558 | Teligent, Inc. | Alan Widra | American Long Lines, Inc.
20003572 | Chevron Corporation | PG&E Corporation | PG&E Energy Services Ventures, LLC
20003576 | Bernard J. Ebbers | KLLM Transport Services, Inc. | KLLM Transport Services, Inc.
20003590 | Matthew Schoenberg | Diageo plc | Burger King Corporation
20003609 | New England Business Service, Inc. | Premium Wear, Inc. | Premium Wear, Inc.
20003632 | Mohawk Corp | PSC Inc. | PSC Inc.
TRANSACTIONS GRANTED EARLY TERMINATION—06/21/2000
20000238 | Allied Waste Industries, Inc. | Republic Services, Inc. | Green Valley Environmental Corp., AAA Disposal of Tenn., Inc.
|  |  | Republic Ser. of Tenn. I, LLC, Safety Lights, Inc.
|  |  | York Waste Disposal, Inc., AAA Disposal Service, Inc.
20000239 | Republic Services, Inc. | Allied Waste Industries, Inc. | American Disposal Services of Missouri, Inc.
|  |  | BFI Waste Systems of New Jersey, Inc.
|  |  | Tom Luciano's Disposal Service, Inc.
20003205 | CompDent Corporation | OHS, Inc. | OHS, Inc.
20003214 | Total Fina Elf S.A | Applied Power Inc. | Barry Wright Corporation
20003527 | The BISYS Group, Inc. | PRIMEDIA Inc. | Pictorial Holdings Inc.
20003535 | Citadel Communications Corporation | Dick Broadcasting Company, Inc. of Tennessee | Dick Broadcasting Company, Inc. of Tennessee
20003540 | Calpine Corporation | Edison International | Auburndale Power Partners, Limited Partnership
20003542 | Scripps Health | SC Physicians Investment Company, Inc. | SC Physicians Organization, Inc.
20003545 | Clear Channel Communications, Inc. | Eastern Radio Assets I, LLC | Eastern Radio Assets I, LLC
20003547 | Pemstar, Inc. | John E. Miller | Turtle Mountain Corporation
20003549 | Casella Waste Systems, Inc. | Louisiana-Pacific Corporation | Louisiana-Pacific Corporation
20003550 | Louisiana-Pacific Corporation | Casella Waste Systems, Inc. | Casella Waste Systems, Inc.
20003552 | Quanta Services, Inc. | IRBY Corp | IRBY Corp.
20003554 | General Electric Company | M.A. Hanna Company | Cadillac Plastic (Canada), Inc.
|  |  | Cadillac Plastic Group, Inc., R.A. Products, Inc.
20003594 | MBNA Corporation | Banknorth Group, Inc. | The Howard Bank, N.A.
TRANSACTIONS GRANTED EARLY TERMINATION—06/22/2000
20003321 | Barry A. Ackerley | Fisher Companies Inc. | Fisher Broadcasting—Fresno, LLC
20003348 | Yasumitsu Shigeta | Pixo, Inc. | Pixo, Inc.
20003426 | Fairey Group plc | AGIV Aktiengesellschaft | Spectris AG Sensoren und Systeme
20003428 | Comtech Telecommunications Corp. | Adaptive Broadband Corporation | Adaptive Broadband Corporation
20003453 | Jamal Hamdani | Adaptive Broadband Corporation | Adaptive Broadband Corporation
20003482 | Terence H. Matthews | IronBridge Networks Incorporated | IronBridge Networks Incorporated
20003487 | L-3 Communications Holdings, Inc. | MPRI, Inc. | MPRI, Inc.
20003519 | Safeguard Scientifics, Inc. | LifeF/X, Inc. | LifeF/X, Inc.
20003520 | Varian Medical Systems, Inc. | IMPAC Medical Systems, Inc. | IMPAC Medical Systems, Inc.
20003525 | BBA Group PLC | Lynton Group, Inc. | Lynton Group, Inc.
20003526 | iXL Enterprises, Inc. | iBelong.com, Inc. | iBelong.com, Inc.
20003531 | CRH plc | CCI Manufacturing, Inc. | CCI Manufacturing, Inc.
20003556 | Alec E. Gores | Cabletron Systems, Inc. | Cabletron Systems, Inc.
20003559 | Julie A. Dobson | Holding Company | Holding Company
20003560 | Gerald T. Vento | Holding Company | Holding Company
20003561 | Thomas H. Sullivan | Holding Company | Holding Company
20003562 | M Financial Incorporated | Bank of America Corporation | Management Compensation Group, Northwest, L.L.C.
20003567 | IntraNet Solutions, Inc. | Inso Corporation | Inso Chicago Corporation, Inso Kansas City Corporation
20003571 | Mrs. Ginette Dalloz | Mr. John R. Liautaud | Fendall Co.
20003581 | Centennial Communications Corp. | Raveesh Kumra | Lake Charles Cellteico/Centennial Lake Charles LLC
20003584 | Silver Lake Partners, L.P. | Girish Gaitonde | Xoriant Corporation
20003585 | Piedmont/Hawthorne Holdings, L.L.C. | Lee Juan & Ethylene Lanford | Associated Hangar, Inc.
20003586 | JAKKS Pacific, Inc. | Pentech International Inc. | Pentech International Inc.
20003608 | Advance Paradigm, Inc. | First Florida International Holdings, Inc. | First Florida International Holdings, Inc.
20003615 | BellSouth Corporation | DeVlieg-Bullard, Inc., (debtor-in-possession) | DeVlieg-Bullard, Inc., (debtor-in-possession)
20003630 | Southern States Cooperative, Incorporated | Agway, Inc. | Agway, Inc.
20003633 | Joseph Littlejohn & Levy Fund II, L.P. | James D. Goldston, III | Goldston's Incorporated
TRANSACTIONS GRANTED EARLY TERMINATION—06/23/2000
20003323 | Danaher Corporation | Warner Electric Group, Inc. | Warner Electric Group, Inc.
20003417 | Sonepar, S.A. | Viking Electric Supply, Inc. | Badger Electric Supply, Inc.
|  |  | Viking Electric Supply, Inc.
20003516 | Edison International | P&L Coal Fields Holding Corporation | Citizens Power, LLC
20003553 | General Electric Company | Morton R. French, Jr. | Aluplastic do Brazil
|  |  | Bodega de Plasticos
|  |  | Chesapeake Plastics, Inc.
|  |  | Comco Graphics, Inc.
|  |  | Comco IL., Inc.
|  |  | Comco Plastics Ltd. (Ireland)
|  |  | Comco Plastics, Ltd. (U.K.)
|  |  | Commercial Plastics & Supply Co., Inc.
|  |  | Commercial Plastics & Supply Corp.
|  |  | Commercial Plastics & Supply Corp. (P.R)
|  |  | Commercial Plastics & Supply Corp. of California
|  |  | Commercial Plastics & Supply Corp. of Connecticut
|  |  | Commercial Plastics & Supply Corp. of Florida
|  |  | Commercial Plastics & Supply Corp. of Georgia
|  |  | Commercial Plastics & Supply Corp. of MN.
|  |  | Commercial Plastics & Supply Corp. of New Jersey
|  |  | Commercial Plastics & Supply Corp. of Pennsylvania
|  |  | Commercial Plastics & Supply Corp. of Texas
|  |  | Commercial Plastics & Supply Corp. of TN
|  |  | Commercial Plastics & Supply Corp. of Utah
|  |  | Commercial Plastics de Mexico S.A. de C.V.
|  |  | Commercial Polymers Corp.
|  |  | Commercial Plastics (C.P.), Inc.
|  |  | Day Plas S.A.
|  |  | Dominicanos (Import) S.A.
|  |  | Estok Plastics Company, Inc.
|  |  | Flexlite Corp.
|  |  | Hyaline Plastics Corporation
|  |  | Insulgard Corp.
|  |  | Plasticos Commercial
20003587 | webMethods, Inc. | Active Software, Inc. | Active Software, Inc.
20003592 | Sovereign Bankcorp, Inc. | Diamond Lease Co. Ltd. | New England Capital Corporation
20003597 | GTE Corporation | Southern Indiana RSA Limited Partnership | Southern Indiana RSA Limited Partnership
20003598 | Citigroup Inc. | Marathon Fund Limited Partnership III | Crescent Sleep Products Company
20003600 | Hubbell Incorporated | Salient 3 Communications, Inc. | Gia-Tronics Corporation, a Delaware Corporation
20003601 | Leucadia National Corporation | Reliance Group Holdings, Inc. | Reliance Group Holdings, Inc.
20003602 | Odyssey Investment Partners Fund, L.P. | Gregory and Elizabeth Maday | Bristol Investments, Inc.
|  |  | Conspec Marketing & Manufacturing Co., Inc.
|  |  | Conspec Performance Products, Inc.
20003604 | The Chase Manhattan Corporation | Robert Fleming Holdings Limited | Robert Fleming Holdings Limited
20003605 | Niku Corporation | ABT Corporation | ABT Corporation
20003641 | Vantage-Sheakley Trust | HealthPlan Services Corporation | American Benefit Plan Administrators, Inc.
|  |  | Centra HealthPlan LLC
|  |  | HealthPlan Services, Inc.
|  |  | National Preferred Provider Network, Inc.
20003664 | Hanover Compressor Company | Stewart & Stevenson Services, Inc. | Stewart & Stevenson Services, Inc.
20003730 | MBNA Corporation | The Prudential Insurance Company of America | PIC Realty Corporation
|  |  | The Prudential Bank and Trust Company
|  |  | The Prudential Savings Bank
TRANSACTIONS GRANTED EARLY TERMINATION—06/26/2000
20003456 | Aurora Equity Partners II L.P. | Kennerly Plastics, L.P. | Supreme Plastics, Inc.
20003459 | GC Companies, Inc. | VeloCom Inc. | VeloCom Inc.
20003505 | ImageX.Com, Inc. | Herbert R. Porter, Jr. | Howard Press Limited Partnership
20003530 | LSI Logic Corporation | DataPath Systems, Inc. | DataPath Systems, Inc.
20003583 | Investor AB | Invesmart, Inc. | Invesmart, Inc.
20003599 | Aventis S.A. | Serologicals Corporation | Seramed, Inc.
20003612 | Advanced Radio Telecom Corp. | Paul S. Bachow | Bachow Communications, Inc.
20003614 | Kellogg Company | Kashi Company | Kashi Company
20003617 | Partek Oyj Abp | Timbco Hydraulics, Inc. | Timbco Hyraulics, Inc.
20003618 | Royal Dutch Petroleum Company | Cytec Industries Inc. | Aviatrix Corporation, Mivida Corporation
20003619 | Warburg, Pincus, Equity Partners, L.P. | Warburg, Pincus Ventures, L.P. | WebGain, Inc.
20003620 | Gucci Group N.V. | Schweizerhall Holding AG | Boucheron International AG
20003621 | Vesta Insurance Group, Inc. | American Founders financial Corp. | American Founders Financial Corp.
20003622 | Entravision Communications Corporation | Sunburst Media, L.P. | Sunburst Media, L.P.
20003624 | Welsh, Carson, Anderson & Stowe IX, L.P. | Slugger Acquisition Corp. (Newco) | Slugger Acquisition Corp. (Newco)
20003625 | Welsh, Carson, Anderson & Stowe VIII, L.P. | Slugger Acquisition Corp. (Newco) | Slugger Acquisition Corp. (Newco)
20003628 | Merrill Lynch & Co., Inc. | Herzog, Heine, Geduld, Inc. | Herzog, Heine, Geduld, Inc.
20003631 | BellSouth Corporation | United Road Services, Inc. | United Road Services, Inc.
20003635 | Hampshire Equity Partners II, L.P. | Hampshire Equity Partners II, L.P. | GlobalLearningSystem.com,Inc.
20003636 | V. Prem Watsa | The Trident Partnership, L.P. | Sen-Tech International Holdings, Inc.
20003638 | Guilford Pharmaceuticals Inc. | Gilatech Inc. | Gilatech Inc.
20003642 | Welsh, Carson, Anderson & Stowe VIII, L.P. | CFW Communications Company | CFW Communications Company
20003644 | John C. Hampton | Industry Pacific, Inc. | Industry Pacific, Inc.
20003645 | QIAGEN N.V. | Operon Technologies, Inc. | Operon Technologies, Inc.
20003650 | Emanuel E. Geduld | Merrill Lynch & Co., Inc. | Merrill Lynch & Co., Inc.
20003651 | Quanta Services, Inc. | Ronald A. Cindrich, Sr. | General Industries, Inc.
20003653 | BPB Industries plc | Asbestos Settlement Trust | Capaul Corporation
|  |  | Celotex Corporation
|  |  | Celotex Metals Corporation
20003655 | U.S. Bancorp | Pitney Bowes Inc. | Pitney Bowes Bank
20003657 | Caisse de depot et placement du Quebec | Windward Capital Associates, L.P. | Meridian Automotive Systems, Inc.
20003658 | United Auto Group, Inc. | Fred D. Schneider | Great Western Inports, Inc.
|  |  | Great Western Management Corp.
|  |  | Lester Goodson Pontiac
20003659 | PPG Industries, Inc. | Apogee Enterprises, Inc. | PPG Auto Glass, LLC
20003660 | Robert C. Fanch | Elantic Communications, Inc. | Elantic Communications, Inc., a Delaware corporation
20003661 | M/C Venture Partners IV, L.P. | Elantic Communications, Inc. | Elantic Communications, Inc., a Delaware corporation
20003662 | KDZ Holdings, LLC | Elantic Communications, Inc. | Elantic Communications, Inc., a Delaware corporation
20003663 | PerkinElmer, Inc. | Genstar Capital Partners II, L.P. | NEN Life Sciences, Inc.
20003665 | Media/Communications Partners III Limited Partnership | Elantic Communications, Inc. | Elantic Communications, Inc., a Delaware corporation
20003667 | Brentwood Associates Private Equity III, L.P. | Timothy J. Battles | KCS industries, Inc.
20003668 | Quantum Industrial Holdings, Ltd. | Jamcracker, Inc. | Jamcracker, Inc.
20003669 | SIGH Schweizerische Industrie-Gesellschaft Holding AG | Thyssen Krupp AG | Krupp Plastics & Rubber Machinery (USA), Inc.
20003670 | 3dfx Interactive, Inc. | GigaPixel Corporation | GigaPixel Corporation
20003671 | George T. Haber | 3dfx Interactive, Inc. | 3dfx Interactive, Inc.
20003691 | Summit Bankcorp. | National Bank of Canada | National Canada Business Corp.
20003696 | United Parcel Services, Inc. | James Nodine | Technical Service Corporation International, Inc.
|  |  | TSCI Holdings, Inc.
20003697 | United Parcel Services, Inc. | Stephen McIIvain | Technical Service Corporation International, Inc.
|  |  | TSCI Holdings, Inc.
20003699 | Windward Capital Associates, L.P. | Richard S. Crawford | Cambridge Ind., Inc., CE Automotive Trim Systems, Inc.
|  |  | Cambridge Industries Holdings, Inc.
20003704 | Cedar Creek Partners LLC | Schaefer Manufacturing, Inc. | Schaefer Manufacturing, Inc.
20003713 | Code Hennessy & Simmons IV, L.P. | John Mansfield Group PLC | WNA Holding Company
20003714 | Greenwich Street Capital Partners II, LP. | WNA Holding Company | WNA Holding Company
20003716 | John E. Feltl | Stockwalk.com Group, Inc. | Stockwalk.com Group, Inc.
20003717 | Stockwalk.com Group, Inc. | John E Feltl | R.J. Steichen & Company
20003719 | NACCO Industries, Inc. | Phillipp Holzmann AG | Dolet Hills Mining Venture
20003725 | Huhtamaki Van Leer Oyi | Huhtamaki Van Leer Oyi | Sirco Systems, LLC
20003726 | Castle Harlan Partners II, L.P. | Castle Harlan partners III, L.P. | Taylor Senior Holding Corp.
20003733 | eBay Inc. | Half.com, Inc. | Half.com, Inc.
20003744 | V.F. Corporation | Fruit of the Loom, Ltd. | Fruit of the Loom, Ltd.
20003764 | Tyco International Ltd. | Thomas & Betts Corporation | Augat, Inc.
TRANSACTIONS GRANTED EARLY TERMINATION—06/27/2000
20003470 | Buckeye Partners, L.P. | Agway, Inc. | Agway Energy Products LLC
20003473 | RailWorks Corporation | HSQ Technology | HSQ Technology
20003475 | Safeguard Scientifics, Inc. | Redleaf Group, Inc. | Redleaf Group, Inc.
20003529 | Natural Wonders, Inc. | World of Science, Inc. | World of Science, Inc.
20003555 | Signet Group plc | Marks & Morgan Jewelers, Inc. | Marks & Morgan Jewelers, Inc.
20003564 | Oneida Ltd. | Glenn Simon | Sakura, Inc.
20003569 | TechTronic Industries Co., Ltd. | Ryobi Limited | Ryobi America Corporation
|  |  | Ryobi North America, Inc., Ryobi Motor Products Corp.
20003626 | Interfoods of America, Inc. | Household International, Inc. | RMS Family Restaurants, Inc.
20003678 | Tyco International Ltd. | K2 Inc. | K2 Inc.
20003708 | General Electric Company | Lunar Corporation | Lunar Corporation
20003715 | GTCR Fund VI, LP. | Coram Healthcare Corporation | Curaflex Health Services, Inc.
TRANSACTIONS GRANTED EARLY TERMINATION—06/28/2000
20003391 | DLJ Merchant Banking Partners II, LP. | E R D A, Inc. | E R D A, Inc.
20003541 | Northern States Power Company (a Minnesota corporation) | Koch Industries, Inc. | Koch Power Louisiana, LLC
20003588 | Sama Polymer Holding, Inc. | Blue Water Plastics, Inc. | Blue Water Plastics, Inc.
20003728 | KKR 1996 Fund L.P. | NewSouth Holdings, Inc. | NewSouth Holdings, Inc.
20003729 | First Union Corporation | NewSouth Holdings, Inc. | NewSouth Holdings, Inc.
TRANSACTIONS GRANTED EARLY TERMINATION—06/29/2000
20003372 | Advance Voting Trust | MediaNews Group, Inc. | MediaNews Group, Inc.
20003438 | Lafarge S.A. | The LTV Corporation | Presque Isle Corporation
20003732 | Swiss Reinsurance Company | National Capital Financial Corporation | National Capital Financial Corporation
20003812 | China Aviation Development Foundation | Sino Swearingen Aircraft Corporation | Sino Swearingen Aircraft Corporation
TRANSACTIONS GRANTED EARLY TERMINATION—06/30/2000
20003515 | Dean Foods Company | Land O'Lakes, Inc. | Land O'Lakes, Inc.
20003521 | Cablevision systems Corporation | AT&T Corp. | MediaOne of Greater New York, Inc.
|  |  | MediaOne of New York, Inc.
20003522 | AT&T Corp. | Cablevision Systems Corporation | Cablevision of Boston, Inc.
|  |  | Cablevision of Brookline, L.P.
|  |  | Cablevision of Massachusetts, Inc.
20003568 | Quanta Services, Inc. | William G. Schroeder | Flowers Holding Company, Inc.
20003579 | Compart S.p.A. | Kay Akey & Randolph S. Creech | Trust of Kay Akey Creech Dated April 2, 1997
20003613 | Carlisle Companies Incoprorated | UniTrek Corporation | UniTrek Corporation
20003623 | Carl C. Icahn | CSX Corporation | CSX Corporation
20003627 | Eramet SA | Special Metals Corporation | Special Metals Corporation
20003637 | Cablevision Systems Corporation | AT&T Corp. | AT Home Corporation
20003649 | Ronald S. Lauder | CFW Communications Company | CFW Information Services, Inc.
20003654 | Marc Ladreit de Lacharriere | Celanese AG | Celanese Ltd.
20003673 | Bollinger Shipyards, Inc. | Friede Goldman Halter, Inc. | Bludworth Bond Holding, Inc.
|  |  | Bludworth Bond LP
|  |  | Gretna Cleaning LLC
|  |  | Halter Calcasieu, LLC
|  |  | Halter Gulf Repair, Inc.
|  |  | Marine Cleaning LLC
20003692 | Datatec Limited | InaCom Corp. | InaCom Communications, Inc.
20003700 | The Northwestern Mutual Life Insurance Company | Windward Capital Associates, L.P. | Meridian Automotive Systems, Inc.
20003701 | Hibernia Corporation | Leslie R. Jacobs | Rosenthal Agency, Inc.
20003702 | Hibernia Corporation | Stephen R. Rosenthal | Rosenthal Agency, Inc.
20003703 | GTCR Fund VII L.P. | Affiliated Computer Services, Inc. | Affiliated Computer Services, Inc.
20003705 | Dimension Data Holdings Limited | Daily Business Products, Inc. | Daily Business Products, Inc.
20003706 | Pinnacle Systems, Inc. | Avid Sports, Inc. | Avid Sports, Inc.
20003731 | Ossama Hassanein | Corvis Corporation | Corvis Corporation
20003738 | Greenwich Street Capital Partners, II, L.P. | American Financial Group, Inc. | Stonewall Insurance Company
20003742 | The 1818 Fund III, L.P. | World Access, Inc. | World Access, Inc.
20003743 | Banco Bilbao Vizcaya Argentaria, S.A. | Grupo Financiero Bancomer, S.A. de C. V. | Grupo Financiero Bancomer, S.A. de C. V.
20003745 | Credit Suisse First Boston Equity Partners L.P. | Sunesis Pharmaceuticals, Inc. | Sunesis Pharmaceuticals, Inc.
20003750 | New Enterprise Stone & Lime Co., Inc. | Richard E. Garman | 2544 Clinton, Inc.; ABC Paving Co., Inc.
20003754 | Compass Group PLC | Granada Group PLC | Granada Group PLC
20003755 | Granada Group PLC | Compass Group PLC | Compass Group PLC
20003758 | Sycamore Networks, Inc. | Sirocco Systems, Inc. | Sirocco Systems, Inc.
20003759 | United Auto Group, Inc. | General Motors Corporation | Cerritos Pontiac-GMC Truck, Inc.
20003760 | XServe, Inc. | Anco Insulations, Inc. | Anco Industries, Inc.
20003761 | General Motors Corporation | Reynolds & Reynolds Co. | Reynolds & Reynolds Co.
20003762 | Atlantic Equity Partners III, L.P. | J Herbert Ogden, Jr. | Unique Fabricating, Inc.
20003816 | SCP Pool Corporation | Arch Chemicals, Inc. | Superior Pool Products, Inc.
20003825 | Mediaplex, Inc. | The Interpublic Group of Companies, Inc. | Adware Systems, Inc.
20003833 | Holding di Partecipazioni Industriali S.p.A. | Joseph Abboud | Houndstooth Corporation

FOR FURTHER INFORMATION CONTACT: Sandra M. Peay, or, Parcellena P. Fielding, Contact Representatives, Federal Trade Commission, Premerger Notification Office, Bureau of Competition, Room 303, Washington, DC 20580, (202) 326-3100.

By Direction of the Commission.
Donald S. Clark,
Secretary.

[FR Doc. 00-19351 Filed 7-31-00; 8:45 am]

BILLING CODE 6750-01-M